ENVIRONMENTAL PROTECTION AGENCY

[FRL-7550-1]

First Draft Staff Paper for Particulate Matter

AGENCY: Environmental Protection Agency (EPA).

ACTION: Notice of a draft for public review and comment.

SUMMARY: On or about August 29, 2003, the Office of Air Quality Planning and Standards (OAQPS) within EPA's Office of Air and Radiation will make available for public review and comment a draft document, Review of the National Ambient Air Quality Standards for Particulate Matter: Policy Assessment of Scientific and Technical Information (First Draft Staff Paper). The purpose of the Staff Paper is to evaluate the policy implications of the key scientific and technical information contained in a related EPA document, Air Quality Criteria for Particulate Matter, required under sections 108 and 109 of the Clean Air Act (CAA) for use in the periodic review of the national ambient air quality standards (NAAQS) for particulate matter (PM). The OAQPS also will make available for public review and comment a related document, Particulate Matter Health Risk Assessment for Selected Urban Areas (Draft Risk Assessment).

DATES: Comments on the first draft Staff Paper and draft Risk Assessment should be submitted on or before October 28, 2003.

ADDRESSES: For information on how to submit comments, see Supplementary Information, Section C.

Availability of Documents for Review

For information on obtaining copies of the draft documents now being made available for review, see Supplementary Information, Section B.

FOR FURTHER INFORMATION CONTACT: Dr. Mary Ross, Office of Air Quality Planning and Standards (mail code C539-01), U.S. Environmental Protection Agency, Research Triangle Park, NC 27711; e-mail: ross.mary@epa.gov; telephone: (919) 541-5170; fax (919) 541-0237.

SUPPLEMENTARY INFORMATION:

A. General Information

The EPA is currently reviewing the NAAQS for PM. Sections 108 and 109 of the CAA require that EPA carry out a periodic review and revision, where appropriate, of the scientific criteria and the NAAQS for “criteria” air pollutants such as PM. Details of EPA's plans for review of the NAAQS for PM were announced in a previous Federal Register notice (62 FR 55201, October 23, 1997).

The purpose of the Staff Paper is to evaluate the policy implications of the key scientific and technical information contained in a related EPA document, Air Quality Criteria for Particulate Matter (AQCD), and identify critical elements that EPA staff believe should be considered in reviewing the PM NAAQS. The Staff Paper is intended to “bridge the gap” between the scientific review contained in the Air Quality Criteria document and the public health and welfare policy judgments required of the Administrator in reviewing the NAAQS.

In June, 2001, a preliminary draft of this Staff Paper was released for public review and comment and for consultation with the Clean Air Scientific Advisory Committee (CASAC) at a public meeting in July 2001 (66 FR 32621, June 15, 2001). The preliminary draft Staff Paper was based on information contained in the second external review draft of the AQCD that was previously made available by the National Center for Environmental Assessment of EPA's Office of Research and Development for public review and comment (66 FR 18929, April 12, 2001). A fourth external review draft of the AQCD has recently been made available for public review and comment (66 FR 18929, June 30, 2003), and for review by CASAC at a public meeting on August 25-26, 2003.

Building upon an earlier preliminary draft Staff Paper (EPA, 2001), and taking into account the information in the fourth external review draft of the AQCD, this first draft Staff Paper includes results from initial staff analyses (e.g., analyses of air quality and visibility data, and human health risk analyses), plans for additional analyses to be incorporated into a subsequent draft of this document, and preliminary staff conclusions and recommendations on the PM NAAQS.

As a first step in developing a health risk assessment for the PM NAAQS review, OAQPS previously released for public and CASAC review (67 FR 3897, January 28, 2002) a draft document, Proposed Methodology for Particulate Matter Risk Analysis for Selected Urban Areas. EPA has considered comments provided in a CASAC advisory on this draft document (May 23, 2002, EPA-SAB-CASAC-ADV-02-002, http://www.epa.gov/sab/pdf/casacadv02002.pdf) and from a CASAC consultation held on May 1, 2003 (68 FR 17939, April 14, 2003), as well as public comments in developing the draft Risk Assessment being released at this time. The draft Risk Assessment describes and presents the preliminary results from a PM health risk assessment for fine particles (PM2,5), coarse fraction particles (PM10-2.5), and PM10. The risk assessment methodology and preliminary results also are summarized in the first draft Staff Paper.

The first draft Staff Paper and draft Risk Assessment will be reviewed at a public meeting of the CASAC to be held later this year. A future Federal Register notice will inform the public of the date and location of that meeting. Following the CASAC meeting, EPA will prepare a second draft Staff Paper and Risk Assessment, taking into account public and CASAC comments and results of additional analyses, and will make the revised draft documents available for review and comment by CASAC and the public.

B. How Can I Get Copies of These Documents?

1. Docket. The EPA has established an official public docket for this action under Docket ID No. OAR-2001-0017. The official public docket consists of the documents specifically referenced in this action, any public comments received, and other information related to the PM NAAQS review. Although a part of the official docket, the public docket does not include Confidential Business Information (CBI) or other information whose disclosure is restricted by statute. The official public docket is the collection of materials that is available for public viewing at the Air Docket in the EPA Docket Center, (EPA/DC) EPA West, Room B102, 1301 Constitution Ave., NW, Washington, DC. The Docket telephone number is (202) 566-1744; fax (202) 566-1741. The EPA Docket Center Public Reading Room is open from 8:30 a.m. to 4:30 p.m., Monday through Friday, excluding legal holidays. A reasonable fee may be charged for copying.

2. Electronic Access. An electronic version of the public docket is available through EPA's electronic public docket and comment system, EPA Dockets. You may use EPA Dockets at http://www.epa.gov/edocket/ to access the documents specifically referenced in this action. These documents are also available at http://www.epa.gov/ttn/naaqs/standards/pm/s_pm_index.html; the draft Staff Paper is available under “Staff Papers” and the draft Risk Assessment document is available under “Technical Documents.” You may also use EPA Dockets at http://www.epa.gov/edocket/ to submit or view public comments, access the index listing of the contents of the official public docket, and to access those documents in the public docket that are available electronically. Once in the system, select “search,” then key in the appropriate docket identification number.

Certain types of information will not be placed in the EPA Dockets. Information claimed as CBI and other information whose disclosure is restricted by statute, which is not included in the official public docket, will not be available for public viewing in EPA's electronic public docket. The EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified above. EPA intends to work towards providing electronic access to all of the publicly available docket materials through EPA's electronic public docket. For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the Docket will be scanned and placed in EPA's electronic public docket. Where practical, physical objects will be photographed, and the photograph will be placed in EPA's electronic public docket along with a brief description written by the docket staff.

For additional information about EPA's electronic public docket visit EPA Dockets online or see 67 FR 38102, May 31, 2002.

C. How and to Whom Do I Submit Comments?

You may submit comments electronically, by mail, by facsimile, or through hand delivery/courier. To ensure proper receipt by EPA, identify the appropriate docket identification number in the subject line on the first page of your comment. Please ensure that your comments are submitted within the specified comment period. Comments received after the close of the comment period will be marked “late.” The EPA is not required to consider these late comments.

1. Electronically. If you submit an electronic comment as prescribed below, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. The EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket, and follow the online instructions for submitting comments. To access EPA's electronic public docket from the EPA Internet Home Page, select “Information Sources,” “Dockets,” and “EPA Dockets.” Once in the system, select “search,” and then key in Docket ID No. OAR-2001-0017. The system is an “anonymous access” system, which means EPA will not know your identity, e-mail address, or other contact information unless you provide it in the body of your comment.

ii. E-mail. Comments may be sent by electronic mail (e-mail) to a-and-r-Docket@epa.gov, Attention Docket ID No. OAR-2001-0017. In contrast to EPA's electronic public docket, EPA's e-mail system is not an “anonymous access” system. If you send an e-mail comment directly to the Docket without going through EPA's electronic public docket, EPA's e-mail system automatically captures your e-mail address. Any E-mail addresses that are automatically captured by EPA's e-mail system are included as part of the comment that is placed in the official public docket, and made available in EPA's electronic public docket.

iii. Disk or CD ROM. You may submit comments on a disk or CD ROM that you mail to the mailing address identified above. These electronic submissions will be accepted in WordPerfect or ASCII file format. Avoid the use of special characters and any form of encryption.

2. By Mail. Send your comments to: Air and Radiation Docket and Information Center, Environmental Protection Agency, Mail code: 6102T, 1200 Pennsylvania Ave., NW, Washington, DC, 20460, Attention Docket ID No. OAR-2001-0017.

3. By Hand Delivery or Courier. Deliver your comments to: EPA Docket Center, 101 Constitution Ave., NW., Room B108, Washington, DC 2004, Attention Docket ID No. OAR-2001-0017. Such deliveries are only accepted during the Docket's normal hours of operation as identified above.

4. By Facsimile. Fax your comments to: 202-566-1741, Attention Docket ID. No. OAR-2001-0017.

D. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket identification number in the subject line on the first page of your response. It would also be helpful if you provided the name, date, and Federal Register citation related to your comments.

Dated: August 21, 2003.
Stephen D. Page,
Director, Office of Air Quality Planning and Standards.

[FR Doc. 03-22051 Filed 8-27-03; 8:45 am]

BILLING CODE 6560-50-P